ENVIRONMENTAL PROTECTION AGENCY

[EPA-HQ-RCRA-2012-0163; FRL-9519-6]

Agency Information Collection Activities; Submission to OMB for Review and Approval; Comment Request; Generator Standards Applicable to Laboratories Owned by Eligible Academic Entities (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 6, 2012.

ADDRESSES: Submit your comments, referencing Docket ID No. EPA-HQ-RCRA-2012-0163, to (1) EPA, either online using www.regulations.gov (our preferred method), or by email to rcra-docket@epa.gov, or by mail to: EPA Docket Center, Environmental Protection Agency, Mail Code 28221T, 1200 Pennsylvania Ave. NW., Washington, DC 20460; and (2) OMB, by mail to: Office of Information and Regulatory Affairs, Office of Management and Budget (OMB), Attention: Desk Officer for EPA, 725 17th Street NW., Washington, DC 20503.

FOR FURTHER INFORMATION CONTACT: Kristen Fitzgerald, (Mail Code 5304P), Environmental Protection Agency, 1200 Pennsylvania Ave. NW., Washington, DC 20460; telephone number: 703-308-8286; fax number: 703-308-8827; email address: fitzgerald.kristen@epa.gov.

SUPPLEMENTARY INFORMATION: EPA has submitted the following ICR to OMB for review and approval according to the procedures prescribed in 5 CFR 1320.12. On March 20, 2012 (77 FR 16222), EPA sought comments on this ICR pursuant to 5 CFR 1320.8(d). EPA received no comments. Any additional comments on this ICR should be submitted to EPA and OMB within 30 days of this notice.

EPA has established a public docket for this ICR under Docket ID No EPA-HQ-RCRA-2012-0163, which is available for online viewing at www.regulations.gov, or in person viewing at the Resource Conservation and Recovery Act (RCRA) Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the RCRA Docket is (202) 566-0270.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

Title: Generator Standards Applicable to Laboratories Owned by Eligible Academic Entities (Renewal).

ICR numbers: EPA ICR No. 2317.02, OMB Control No. 2050-0204.

ICR Status: This ICR is scheduled to expire on July 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The EPA has finalized an alternative set of generator requirements applicable to laboratories owned by eligible academic entities, as defined in the final rule. The rule, which established a new Subpart K within 40 CFR part 262, provides a flexible and protective set of regulations that address the specific nature of hazardous waste generation and accumulation in laboratories owned by colleges and universities, and teaching hospitals and non-profit research institutes that are either owned by or formally affiliated with a college or university. In addition, the final rule allows colleges and universities and these other eligible academic entities formally affiliated with a college or university the discretion to determine the most appropriate and effective method of compliance with these requirements by allowing them the choice of managing their hazardous wastes in accordance with the new alternative regulations as set forth in Subpart K or remaining subject to the existing generator regulations. The rule requires that an eligible academic entity choosing to manage its unwanted materials will submit a Site Identification Form on a one-time basis to the appropriate EPA Regional Administrator or, when appropriate, State Director in authorized States that have adopted the final rule. EPA and States will use this information to identify the entities and sites subject to the Subpart K requirements and ensure that all of these sites are managing their unwanted materials in a manner that is protective of human health and the environment.

When submitting the Site Identification Form, the eligible academic entity must, at a minimum, fill out the fields on the form that are specified at section 262.203(b)(1)-(11). Section 262.203(c) provides that an eligible academic entity must keep a copy of the notification on file at the eligible academic entity while its laboratories are subject to Subpart K. Section 262.203(d) provides that a teaching hospital that is not owned by a college or university must keep a copy of its formal written affiliation agreement with a college or university on file at the teaching hospital while its laboratories are subject to Subpart K. Section 262.203(e) provides that a non-profit research institute that is not owned by a college or university must keep a copy of its formal written affiliation agreement with a college or university on file at the non-profit research institute while its laboratories are subject to Subpart K. An eligible academic entity must submit a separate notification of withdrawal (Site Identification Form) for each EPA Identification Number (or site, for conditionally exempt small quantity generators) that is withdrawing from the requirements of Subpart K.

Burden Statement: The annual public reporting and recordkeeping burden for this collection of information is estimated to average .04 hours per response. The hourly reporting burden associated with Subpart K is estimated to be 10 minutes per respondent. This includes time for preparing and submitting a Site Identification Form to opt into Subpart K. The hourly recordkeeping burden associated with Subpart K is estimated to be approximately 280 hours per respondent. This includes time for reading the regulations, labeling containers, and preparing and maintaining specified documents (e.g., Laboratory Management Plan).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Private sector; State, Local, or Tribal Governments.

Estimated Number of Respondents: 99.

Frequency of Response: Yearly, Once, On occasion.

Estimated Total Annual Hour Burden: 27,719 hours.

Estimated Total Annual Cost: $1,322,414, which includes $1,218,694 annualized labor costs and $103,720 annualized capital or O&M costs.

Changes in the Estimates: There is an increase of 13,260 hours in the total estimated burden currently identified in the OMB Inventory of Approved ICR Burdens. This increase is an adjustment to the existing estimates based on data gathered through industry consultations and review of the Resource Conservation and Recovery Act Information (RCRAInfo) national database, not due to program changes.

John Moses,
Director, Collection Strategies Division.

[FR Doc. 2012-16391 Filed 7-3-12; 8:45 am]

BILLING CODE 6560-50-P